DEPARTMENT OF AGRICULTURE

Animal and Plant Health Inspection Service

[Docket No. APHIS-2006-0157]

Syngenta; Availability of Petition and Environmental Assessment for Determination of Nonregulated Status for Corn Genetically Engineered for Insect Resistance

AGENCY: Animal and Plant Health Inspection Service, USDA.

ACTION: Notice; reopening of comment period for draft environmental assessment.

SUMMARY: We are reopening the comment period for a draft environmental assessment prepared with respect to a petition from Syngenta Seeds, Inc., seeking a determination of nonregulated status for corn rootworm-resistant corn derived from a transformation event designated as MIR604. This action will allow interested persons additional time to prepare and submit comments on the draft environmental assessment.

DATES: We will consider all comments on the draft environmental assessment that are received on or before March 9, 2007.

ADDRESSES: You may submit comments by either of the following methods:

• Federal eRulemaking Portal: Go to http://www.regulations.gov, select “Animal and Plant Health Inspection Service” from the agency drop-down menu, then click “Submit.” In the Docket ID column, select APHIS-2006-0157 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0157, Regulatory Analysis and Development, PPD, APHIS, Station 3A-03.8, 4700 River Road Unit 118, Riverdale, MD 20737-1238. Please state that your comment refers to Docket No. APHIS-2006-0157.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Catherine Preston, Biotechnology Regulatory Services, APHIS, 4700 River Road Unit 147, Riverdale, MD 20737-1236; (301) 734-5874, e-mail: catherine.a.preston@aphis.usda.gov. To obtain copies of the petition or the environmental assessment, contact Ms. Cynthia Eck at (301) 734-0667, e-mail: cynthia.a.eck@aphis.usda.gov. The petition and the environmental assessment are also available on the Internet at http://www.aphis.usda.gov/brs/aphisdocs/04_36201p.pdf and http://www.aphis.usda.gov/brs/aphisdocs/04_36201p_ea.pdf

SUPPLEMENTARY INFORMATION: On January 10, 2007, we published in the Federal Register (72 FR 1212-1214, Docket No. APHIS-2006-0157) a notice advising the public that the Animal and Plant Health Inspection Service has received a petition from Syngenta Seeds, Inc., seeking a determination of nonregulated status for corn rootworm-resistant corn derived from a transformation event designated as MIR604. The petition has been submitted in accordance with our regulations concerning the introduction of certain genetically engineered organisms and products. In accordance with those regulations, our notice solicited comments on whether this corn presents a plant pest risk. We also made available for public comment a draft environmental assessment for the proposed determination of nonregulated status.

In our notice, we stated that we will consider comments on the petition that are received on or before March 12, 2007, and comments on the draft environmental assessment that are received on or before February 9, 2007. We are reopening the comment period for the draft environmental assessment for an additional 15 days from the date of publication of this notice. This action will allow interested persons additional time to prepare and submit comments on the draft environmental assessment. We will also consider all comments on the draft environmental assessment we receive between February 10, 2007, and the date of this notice.

(Authority: 7 U.S.C. 7701-7772 and 7781-7786; 31 U.S.C. 9701; 7 CFR 2.22, 2.80, and 371.3.)

Done in Washington, DC, this 16th day of February 2007.
W. Ron DeHaven,
Administrator, Animal and Plant Health Inspection Service.

[FR Doc. E7-3119 Filed 2-21-07; 8:45 am]

BILLING CODE 3410-34-P